DEPARTMENT OF HOUSING AND URBAN DEVELOPMENT

[Docket No. FR-5376-N-21]

Housing Finance Agency Risk-Sharing Program

AGENCY: Office of the Chief Information Officer, HUD.

ACTION: Notice.

SUMMARY: The proposed information collection requirement described below has been submitted to the Office of Management and Budget (OMB) for review, as required by the Paperwork Reduction Act. The Department is soliciting public comments on the subject proposal.

Section 542(c) of the Risk Sharing Program authorizes qualified Housing Finance Agencies (HFAs) to underwrite and process loans. HUD provides full mortgage insurance on affordable multifamily housing project processed by HFAs under this program. Qualified HFAs are vested with the maximum amount of processing responsibilities. By entering into Risk-Sharing Agreement with HUD, HFAs contract to reimburse HUD for a portion of the loss from any defaults that occur while HUD insurance is in force.

DATES: Comments Due Date: May 3, 2010.

ADDRESSES: Interested persons are invited to submit comments regarding this proposal. Comments should refer to the proposal by name and/or OMB approval Number (2502-0500) and should be sent to: HUD Desk Officer, Office of Management and Budget, New Executive Office Building, Washington, DC 20503; fax: 202-395-5806.

FOR FURTHER INFORMATION CONTACT: Leroy McKinney, Jr., Reports Management Officer, QDAM, Department of Housing and Urban Development, 451 Seventh Street, SW., Washington, DC 20410; e-mail Leroy McKinney, Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Finance Agency Risk-Sharing Program.

OMB Approval Number: 2502-0500.

Form Numbers: HUD-2703B, HUD-92080, HUD-92426, HUD-94193, HUD-94196, HUD-2744-A, HUD-2744-B, HUD-2744-C, HUD-2744-D, HUD-2744-E, HUD-94194, HUD-94192, SF-LLL, HUD-7015.15, HUD-7015.16.

Description of the Need for the Information and its Proposed Use: Section 542(c) of the Risk Sharing Program authorizes qualified Housing Finance Agencies (HFAs) to underwrite and process loans. HUD provides full mortgage insurance on affordable multifamily housing project processed by HFAs under this program. Qualified HFAs are vested with the maximum amount of processing responsibilities. By entering into Risk-Sharing Agreement with HUD, HFAs contract to reimburse HUD for a portion of the loss from any defaults that occur while HUD insurance is in force.

Frequency of Submission: On occasion.

| Number of respondents | Annual responses | × | Hours per response | = | Burden hours
Reporting Burden | 915 | 16.1836 |  | 1.9529 |  | 28,919

Total Estimated Burden Hours: 28,919.

Status: Revision, with change, of previously approved collection for which approval has expired.

Authority: Section 3507 of the Paperwork Reduction Act of 1995, 44 U.S.C. 35, as amended.

Dated: March 25, 2010.
Leroy McKinney, Jr.,
Departmental Reports Management Officer, Office of the Chief Information Officer.

[FR Doc. 2010-7488 Filed 4-1-10; 8:45 am]

BILLING CODE 4210-67-P